DEPARTMENT OF HOMELAND SECURITY

Coast Guard

33 CFR Parts 100 and 165

[Docket No. USCG-2014-0865]

RIN 1625-AA08; 1625-AA00

Special Local Regulations and Safety Zones; Recurring Marine Events Held in the Coast Guard Sector Northern New England Captain of the Port Zone

AGENCY: Coast Guard, DHS.

ACTION: Final rule.

SUMMARY: The Coast Guard is updating the special local regulations and permanent safety zones in the Coast Guard Sector Northern New England Captain of the Port Zone for annual recurring marine events. When enforced, these special local regulations and safety zones will restrict vessel operations within portions of water areas during certain annually recurring events. The special local regulations and safety zones are intended to expedite public notification and ensure the protection of the maritime public and event participants from the hazards associated with certain maritime events.

DATES: This rule is effective May 12, 2015. This rule will be enforced during dates and times specified in a series of Notices of Enforcement to be published no less than 30 days prior to any event requiring a special local regulation or safety zone covered by this rule.

ADDRESSES: Documents mentioned in this preamble are part of docket [USCG-2014-0865]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, contact Chief Marine Science Technician Chris Bains, Waterways Management Division at Coast Guard Sector Northern New England, telephone 207-347-5003, email Chris.D.Bains@uscg.mil. If you have questions on viewing or submitting material to the docket, call Cheryl Collins, Program Manager, Docket Operations, telephone 202-366-9826.

SUPPLEMENTARY INFORMATION:

Table of Acronyms

COTP Captain of the Port

DHS Department of Homeland Security

FR Federal Register

NPRM Notice of Proposed Rulemaking

A. Regulatory History and Information

On Tuesday, March 24, 2015, the Coast Guard published a notice of proposed rulemaking (NPRM) entitled “Special Local Regulations and Safety Zones; Recurring Events in Northern New England” in the Federal Register (80 FR 15532). We received no comments on the proposed rule. No public meeting was requested and none was held.

Under 5 U.S.C. 553(d)(3), the Coast Guard finds that good cause exists for making this rule effective less than 30 days after final publication in the Federal Register. Delaying this rule would be impracticable and contrary to the public interest because the first scheduled marine event covered by this rule is scheduled for May. The Coast Guard did not receive the updated information on listed events in time to publish more than thirty days before the first events. The rule must become effective as soon as practicable to provide for the safety of all users of the waterway during the scheduled events.

B. Basis and Purpose

The legal basis for the rule is 33 U.S.C. 1231; 50 U.S.C. 191; 33 CFR 1.05-1, 6.04-1, 6.04-6, and 160.5; and Department of Homeland Security Delegation No. 0170.1, which collectively authorize the Coast Guard to establish safety zones and special local regulations.

Swim events, fireworks displays, and marine events are held on an annual recurring basis on the navigable waters within the Coast Guard Sector Northern New England COTP Zone. In the past, the Coast Guard has established special local regulations, regulated areas, and safety zones for these annual recurring events on a case-by-case basis to ensure the protection of the maritime public and event participants from the hazards associated with these events. In the past year, events were assessed for their likelihood to recur in subsequent years and were added to the tables accordingly. In addition, the event titled “5.1 Hawgs, Pies, & Fireworks” in Gardiner, ME. was changed to “5.1 Ride into Summer”.

This rulemaking updates the existing regulation in order to meet the Coast Guard's intended purpose of ensuring safety during these events.

C. Discussion of Comments, Changes and the Final Rule

No comments were received and no changes have been made to the Final Rule.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect the economic impact of this rule to be minimal. Although this regulation may have some impact on the public, the potential impact will be minimized. The Coast Guard is only modifying an existing regulation to account for new information.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities. This rule will affect the following entities, some of which might be small entities: Owners or operators of vessels intending to transit, fish, or anchor in the areas where the listed annual recurring events are being held.

The rule will not have a significant economic impact on a substantial number of small entities for the following reasons: Vessels will only be restricted from safety zones and special local regulation areas for a short duration of time; vessels may transit in portions of the affected waterway except for those areas covered by the regulated areas; and notifications will be made to the local maritime community through the Local Notice to Mariner's and Broadcast Notice to Mariner's well in advance of the events. In addition, this action is only modifying an existing rule which, in and of itself, did not have a significant impact on a substantial number of small entities.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the above section titled FOR FURTHER INFORMATION CONTACT.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves water activities including swimming events and fireworks displays. This rule is categorically excluded from further review under paragraphs (34)(g) and (34)(h) of Figure 2-1 of the Commandant Instruction. An environmental analysis checklist supporting this determination and a Categorical Exclusion Determination are available in the docket where indicated under ADDRESSES. We seek any comments or information that may lead to the discovery of a significant environmental impact from this rule.

List of Subjects

33 CFR Part 100

Marine safety, Navigation (water), Reporting and recordkeeping requirements, Waterways.

33 CFR Part 165

Harbors, Marine Safety, Navigation (water), Reporting and recordkeeping requirements, Security measures, Waterways.

For the reasons discussed in the preamble, the Coast Guard amends 33 CFR parts 100 and 165 as follows:

PART 100—SAFETY OF LIFE ON NAVIGABLE WATERS

1. The authority citation for Part 100 continues to read as follows:

Authority: 33 U.S.C. 1233.

2. In § 100.120, revise the table to read as follows:

§ 100.120 Special Local Regulations; Marine Events Held in the Coast Guard Sector Northern New England Captain of the Port Zone.

* * * * *

Table to § 100.120
5.0 | May occur from May through September
5.1 Tall Ships Visiting Portsmouth | • Event Type: Regatta and Boat Parade.
| • Sponsor: Portsmouth Maritime Commission, Inc.
| • Date: A four day event from Friday through Monday.*
| • Time (Approximate): 9:00 a.m. to 8:00 p.m. each day.
| • Location: The regulated area includes all waters of Portsmouth Harbor, New Hampshire in the vicinity of Castle Island within the following points (NAD 83):
| 43°03′11″ N, 070°42′26″ W.
| 43°03′18″ N, 070°41′51″ W.
| 43°04′42″ N, 070°42′11″ W.
| 43°04′28″ N, 070°44′12″ W.
| 43°05′36″ N, 070°45′56″ W.
| 43°05′29″ N, 070°46′09″ W.
| 43°04′19″ N, 070°44′16″ W.
| 43°04′22″ N, 070°42′33″ W.
6.0 | JUNE
6.1 Bar Harbor Blessing of the Fleet | • Event Type: Regatta and Boat Parade.
| • Sponsor: Town of Bar Harbor, Maine.
| • Date: A one day event between the 15th of May and the 15th of June.*
| • Time (Approximate): 12:00 p.m. to 1:30 p.m.
| • Location: The regulated area includes all waters of Bar Harbor, Maine within the following points (NAD 83):
| 44°23′32″ N, 068°12′19″ W.
| 44°23′30″ N, 068°12′00″ W.
| 44°23′37″ N, 068°12′00″ W.
| 44°23′35″ N, 068°12′19″ W.
6.2 Charlie Begin Memorial Lobster Boat Races | • Event Type: Power Boat Race.
| • Sponsor: Boothbay Harbor Lobster Boat Race Committee.
| • Date: A one day event in June.*
| • Time (Approximate): 10:00 a.m. to 3:00 p.m.
| • Location: The regulated area includes all waters of Boothbay Harbor, Maine in the vicinity of John's Island within the following points (NAD 83):
| 43°50′04″ N, 069°38′37″ W.
| 43°50′54″ N, 069°38′06″ W.
| 43°50′49″ N, 069°37′50″ W.
| 43°50′00″ N, 069°38′20″ W.
6.3 Rockland Harbor Lobster Boat Races | • Event Type: Power Boat Race.
| • Sponsor: Rockland Harbor Lobster Boat Race Committee.
| • Date: A one day event in June.*
| • Time (Approximate): 9:00 a.m. to 5:00 p.m.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
6.4 Windjammer Days Parade of Ships | • Event Type: Tall Ship Parade.
| • Sponsor: Boothbay Region Chamber of Commerce.
| • Date: A one day event in June.*
| • Time (Approximate): 12:00 p.m. to 5:00 p.m.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
6.5 Bass Harbor Blessing of the Fleet Lobster Boat Race | • Event Type: Power Boat Race.
| • Sponsor: Tremont Congregational Church.
| • Date: A one day event in June.*
| • Time (Approximate): 10:00 a.m. to 2:00 p.m.
| • Location: The regulated area includes all waters of Bass Harbor, Maine in the vicinity of Lopaus Point within the following points (NAD 83):
| 44°13′28″ N, 068°21′59″ W.
| 44°13′20″ N, 068°21′40″ W.
| 44°14′05″ N, 068°20′55″ W.
| 44°14′12″ N, 068°21′14″ W.
6.6 Long Island Lobster Boat Race | • Event Type: Power Boat Race.
| • Sponsor: Long Island Lobster Boat Race Committee.
| • Date: A one day event in June.*
| • Time (Approximate): 10:00 a.m. to 3:00 p.m.
| • Location: The regulated area includes all waters of Casco Bay, Maine in the vicinity of Great Ledge Cove and Dorseys Cove off the northwest coast of Long Island, Maine within the following points (NAD 83):
| 43°41′59″ N, 070°08′59″ W.
| 43°42′04″ N, 070°09′10″ W.
| 43°41′41″ N, 070°09′38″ W.
| 43°41′36″ N, 070°09′30″ W.
7.0 | JULY
7.1 Moosabec Lobster Boat Races | • Event Type: Power Boat Race.
| • Sponsor: Moosabec Boat Race Committee.
| • Date: A one day event held near July 4th.*
| • Time (Approximate): 10:00 a.m. to 12:30 p.m.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.2 The Great Race | • Event Type: Rowing and Paddling Boat Race.
| • Sponsor: Franklin County Chamber of Commerce.
| • Date: A one day event on a Sunday between the 15th of August and the 15th of September.*
| • Time (Approximate): 10:00 a.m. to 12:30 p.m.
| • Location: The regulated area includes all waters of Lake Champlain in the vicinity of Saint Albans Bay within the following points (NAD 83):
| 44°47′18″ N, 073°10′27″ W.
| 44°47′10″ N, 073°08′51″ W.
7.3 Searsport Lobster Boat Races | • Event Type: Power Boat Race.
| • Sponsor: Searsport Lobster Boat Race Committee.
| • Date: A one day event in July.*
| • Time (Approximate): 9:00 a.m. to 4:00 p.m.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.4 Stonington Lobster Boat Races | • Event Type: Power Boat Race.
| • Sponsor: Stonington Lobster Boat Race Committee.
| • Date: A one day event in July.*
| • Time (Approximate): 8:00 a.m. to 3:30 p.m.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
7.5 Mayor's Cup Regatta | • Event Type: Sailboat Parade.
| • Sponsor: Plattsburgh Sunrise Rotary.
| • Date: A one day event in July.*
| • Time (Approximate): 10:00 a.m. to 4:00 p.m.
| • Location: The regulated area includes all waters of Cumberland Bay on Lake Champlain in the vicinity of Plattsburgh, New York within the following points (NAD 83):
| 44°41′26″ N, 073°23′46″ W.
| 44°40′19″ N, 073°24′40″ W.
| 44°42′01″ N, 073°25′22″ W.
7.6 The Challenge Race | • Event Type: Rowing and Paddling Boat Race.
| • Sponsor: Lake Champlain Maritime Museum.
| • Date: A one day event in July.*
| • Time (Approximate): 11:00 a.m. to 3:00 p.m.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
7.7 Yarmouth Clam Festival Paddle Race | • Event Type: Rowing and Paddling Boat Race.
| • Sponsor: Maine Island Trail Association.
| • Date: A one day event in July.*
| • Time (Approximate): 8:00 a.m. to 4:00 p.m.
| • Location: The regulated area includes all waters in the vicinity of the Royal River outlet and Lane's Island within the following points (NAD 83):
| 43°47′47″N 070°08′40″W.
| 43°47′50″N 070°07′13″W.
| 43°47′06″N 070°07′32″W.
| 43°47′17″N 070°08′25″W.
7.8 Maine Windjammer Lighthouse Parade | • Event Type: Wooden Boat Parade.
| • Sponsor: Maine Windjammer Association.
| • Date: A one day event in July.*
| • Time (Approximate): 1:00 p.m. to 3:00 p.m.
| • Location: The regulated area includes all waters of Rockland Harbor, Maine in the vicinity of the Rockland Harbor Breakwater within the following points (NAD 83):
| 44°06′14″ N, 069°03′48″ W.
| 44°05′50″ N, 069°03′47″ W.
| 44°06′14″ N, 069°05′37″ W.
| 44°05′50″ N, 069°05′37″ W.
7.9 Friendship Lobster Boat Races | • Event Type: Power Boat Race.
| • Sponsor: Friendship Lobster Boat Race Committee.
| • Date: A one day event during a weekend between the 15th of July and the 15th of August.*
| • Time (Approximate): 9:30 a.m. to 3:00 p.m.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
7.10 Harpswell Lobster Boat Races | • Event Type: Power Boat Race.
| • Sponsor: Harpswell Lobster Boat Race Committee.
| • Date: A one day event between the 15th of July and the 15th of August.*
| • Time (Approximate): 10:00 a.m. to 3:00 p.m.
| • Location: The regulated area includes waters of Middle Bay near Harpswell, Maine within the following points (NAD 83):
| 43°44′15″ N, 070°02′06″ W.
| 43°44′59″ N, 070°01′21″ W.
| 43°44′51″ N, 070°01′05″ W.
| 43°44′06″ N, 070°01′49″ W.
8.0 | AUGUST
8.1 Eggemoggin Reach Regatta | • Event Type: Wooden Boat Parade.
| • Sponsor: Rockport Marine, Inc. and Brooklin Boat Yard.
| • Date: A one day event on a Saturday between the 15th of July and the 15th of August.*
| • Time (Approximate): 11:00 a.m. to 7:00 p.m.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.2 Southport Rowgatta Rowing and Paddling Boat Race | • Event Type: Rowing and Paddling Boat Race.
| • Sponsor: Boothbay Region YMCA.
| • Date: A one day event in August.*
| • Time (Approximate): 8:00 a.m. to 3:00 p.m.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.3 Winter Harbor Lobster Boat Races | • Event Type: Power Boat Race.
| • Sponsor: Winter Harbor Chamber of Commerce.
| • Date: A one day event in August.*
| • Time (Approximate): 9:00 a.m. to 3:00 p.m.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.4 Lake Champlain Dragon Boat Festival | • Event Type: Rowing and Paddling Boat Race.
| • Sponsor: Dragonheart Vermont.
| • Date: A one day event in August.*
| • Time (Approximate): 7:00 a.m. to 5:00 p.m.
| • Location: The regulated area includes all waters of Burlington Bay within the following points (NAD 83):
| 44°28′49″ N, 073°13′22″ W.
| 44°28′41″ N, 073°13′36″ W.
| 44°28′28″ N, 073°13′31″ W.
| 44°28′38″ N, 073°13′18″ W.
8.5 Merritt Brackett Lobster Boat Races | • Event Type: Power Boat Race.
| • Sponsor: Town of Bristol, Maine.
| • Date: A one day event in August.*
| • Time (Approximate): 10:00 a.m. to 3:00 p.m.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.6 Multiple Sclerosis Regatta | • Event Type: Regatta and Sailboat Race.
| • Sponsor: Maine Chapter, Multiple Sclerosis Society.
| • Date: A one day event in August.*
| • Time (Approximate): 10:00 a.m. to 4:00 p.m.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
8.7 Multiple Sclerosis Harborfest Lobster Boat/Tugboat Races | • Event Type: Power Boat Race.
| • Sponsor: Maine Chapter, Multiple Sclerosis Society.
| • Date: A one day event in August.*
| • Time (Approximate): 10:00 a.m. to 3:00 p.m.
| • Location: The regulated area includes all waters of Portland Harbor, Maine in the vicinity of Maine State Pier within the following points (NAD 83):
| 43°40′25″ N, 070°14′21″ W.
| 43°40′36″ N, 070°13′56″ W.
| 43°39′58″ N, 070°13′21″ W.
| 43°39′47″ N, 070°13′51″ W.
9.0 | SEPTEMBER
9.1 Pirates Festival Lobster Boat Races | • Event Type: Power Boat Race.
| • Sponsor: Eastport Pirates Festival.
| • Date: A one day event in September.*
| • Time (Approximate): 11:00 a.m. to 6:00 p.m.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.
* Date subject to change. Exact date will be posted in Notice of Enforcement and Local Notice to Mariners

PART 165—REGULATED NAVIGATION AREAS AND LIMITED ACCESS AREAS

3. The authority citation for Part 165 continues to read as follows:

Authority: 33 U.S.C. 1231; 46 U.S.C. Chapter 701, 3306, 3703; 33 CFR 1.05-1, 6.04-1, 6.04-6, and 160.5; Public Law 107-295, 116 Stat. 2064; Department of Homeland Security Delegation No. 0170.1.

4. In § 165.171, revise the table to read as follows:

§ 165.171 Safety Zones for fireworks displays and swim events held in Coast Guard Sector Northern New England Captain of the Port Zone.

* * * * *

Table to § 165.171
5.0 | MAY
5.1 Ride into Summer | • Event Type: Fireworks Display.
| • Sponsor: Gardiner Maine Street.
| • Date: One night event between the 15th of May and the 15th of June.*
| • Time (Approximate): 8:00 p.m. to 10:00 p.m.
| • Location: In the vicinity of the Gardiner Waterfront, Gardiner, Maine in approximate position: 44°13′52″ N, 069°46′08″ W (NAD 83).
6.0 | JUNE
6.1 Rotary Waterfront Days Fireworks | • Event Type: Fireworks Display.
| • Sponsor: Gardiner Rotary.
| • Date: Two night event on a Wednesday and Saturday in June.*
| • Time (Approximate): 8:00 p.m. to 10:00 p.m.
| • Location: In the vicinity of the Gardiner Waterfront, Gardiner, Maine in approximate position:
| 44°13′52″ N, 069°46′08″ W (NAD 83).
6.2 LaKermesse Fireworks | • Event Type: Fireworks Display.
| • Sponsor: Ray Gagne.
| • Date: One night event in June.*
| • Time (Approximate): 8:00 p.m. to 10:00 p.m.
| • Location: Biddeford, Maine in approximate position:
| 43°29′37″ N, 070°26′47″ W (NAD 83).
6.3 Windjammer Days Fireworks | • Event Type: Fireworks Display.
| • Sponsor: Boothbay Harbor Region Chamber of Commerce
| • Date: One night event in June.*
| • Time (Approximate): 8:00 p.m. to 10:30 p.m.
| • Location: In the vicinity of McFarland Island, Boothbay Harbor, Maine in approximate position:
| 43°50′38″ N, 069°37′57″ W (NAD 83).
7.0 | JULY
7.1 Vinalhaven 4th of July Fireworks | • Event Type: Firework Display.
| • Sponsor: Vinalhaven 4th of July Committee.
| • Date: One night event in July.*
| • Time (Approximate): 8:00 p.m. to 10:30 p.m.
| • Location: In the vicinity of Grime's Park, Vinalhaven, Maine in approximate position:
| 44°02′34″ N, 068°50′26″ W (NAD 83).
7.2 Burlington Independence Day Fireworks | • Event Type: Firework Display.
| • Sponsor: City of Burlington, Vermont.
| • Date: One night event in July.*
| • Time (Approximate): 9:00 p.m. to 11:00 p.m.
| • Location: From a barge in the vicinity of Burlington Harbor, Burlington, Vermont in approximate position:
| 44°28′31″ N, 073°13′31″ W (NAD 83).
7.3 Camden 3rd of July Fireworks | • Event Type: Fireworks Display.
| • Sponsor: Camden, Rockport, Lincolnville Chamber of Commerce.
| • Date: One night event in July.*
| • Time (Approximate): 8:00 p.m. to 10:00 p.m.
| • Location: In the vicinity of Camden Harbor, Maine in approximate position:
| 44°12′32″ N, 069°02′58″ W (NAD 83).
7.4 Bangor 4th of July Fireworks | • Event Type: Fireworks Display.
| • Sponsor: Bangor 4th of July Fireworks.
| • Date: One night event in July.*
| • Time (Approximate): 8:00 p.m. to 10:30 p.m.
| • Location: In the vicinity of the Bangor Waterfront, Bangor, Maine in approximate position:
| 44°47′27″ N, 068°46′31″ W (NAD 83).
7.5 Bar Harbor 4th of July Fireworks | • Event Type: Fireworks Display.
| • Sponsor: Bar Harbor Chamber of Commerce.
| • Date: One night event in July.*
| • Time (Approximate): 8:00 p.m. to 10:30 p.m.
| • Location: In the vicinity of Bar Harbor Town Pier, Bar Harbor, Maine in approximate position:
| 44°23′31″ N, 068°12′15″ W (NAD 83).
7.6 Boothbay Harbor 4th of July Fireworks | • Event Type: Fireworks Display.
| • Sponsor: Town of Boothbay Harbor.
| • Date: One night event in July.*
| • Time (Approximate): 8:00 p.m. to 10:30 p.m.
| • Location: In the vicinity of McFarland Island, Boothbay Harbor, Maine in approximate position:
| 43°50′38″ N, 069°37′57″ W (NAD 83).
7.7 Colchester 4th of July Fireworks | • Event Type: Fireworks Display.
| • Sponsor: Town of Colchester, Recreation Department.
| • Date: One night event in July.*
| • Time (Approximate): 8:00 p.m. to 10:00 p.m.
| • Location: In the vicinity of Bayside Beach and Mallets Bay in Colchester, Vermont in approximate position:
| 44°32′44″ N, 073°13′10″ W (NAD 83).
7.8 Eastport 4th of July Fireworks | • Event Type: Fireworks Display.
| • Sponsor: Eastport 4th of July Committee.
| • Date: One night event in July.*
| • Time (Approximate): 9:00 p.m. to 9:30 p.m.
| • Location: From the Waterfront Public Pier in Eastport, Maine in approximate position:
| 44°54′25″ N, 066°58′55″ W (NAD 83).
7.9 Ellis Short Sand Park Trustee Fireworks | • Event Type: Fireworks Display.
| • Sponsor: William Burnham.
| • Date: One night event in July.*
| • Time (Approximate): 8:30 p.m. to 11:00 p.m.
| • Location: In the vicinity of York Beach, Maine in approximate position:
| 43°10′27″ N, 070°36′26″ W (NAD 83).
7.10 Hampton Beach 4th of July Fireworks | • Event Type: Fireworks Display.
| • Sponsor: Hampton Beach Village District.
| • Date: One night event in July.*
| • Time (Approximate): 8:30 p.m. to 11:00 p.m.
| • Location: In the vicinity of Hampton Beach, New Hampshire in approximate position:
| 42°54′40″ N, 070°36′25″ W (NAD 83).
7.11 Jonesport 4th of July Fireworks | • Event Type: Fireworks Display.
| • Sponsor: Jonesport 4th of July Committee.
| • Date: One night event in July.*
| • Time (Approximate): 8:00 p.m. to 10:30 p.m.
| • Location: In the vicinity of Beals Island, Jonesport, Maine in approximate position:
| 44°31′18″ N, 067°36′43″ W (NAD 83).
7.12 Lubec Bicentennial Fireworks | • Event Type: Fireworks Display.
| • Sponsor: Town of Lubec, Maine.
| • Date: One night event in July.*
| • Time (Approximate): 8:00 p.m. to 10:30 p.m.
| • Location: In the vicinity of the Lubec Public Boat Launch in approximate position:
| 44°51′52″ N, 066°59′06″ W (NAD 83).
7.13 Main Street Heritage Days 4th of July Fireworks | • Event Type: Fireworks Display.
| • Sponsor: Main Street Inc.
| • Date: One night event in July.*
| • Time (Approximate): 8:00 p.m. to 10:30 p.m.
| • Location: In the vicinity of Reed and Reed Boat Yard, Woolwich, Maine in approximate position:
| 43°54′56″ N, 069°48′16″ W (NAD 83).
7.14 Portland Harbor 4th of July Fireworks | • Event Type: Fireworks Display.
| • Sponsor: Department of Parks and Recreation, Portland, Maine.
| • Date: One night event in July.*
| • Time (Approximate): 8:30 p.m. to 10:30 p.m.
| • Location: In the vicinity of East End Beach, Portland, Maine in approximate position:
| 43°40′16″ N, 070°14′44″ W (NAD 83).
7.15 St. Albans Day Fireworks | • Event Type: Fireworks Display.
| • Sponsor: St. Albans Area Chamber of Commerce.
| • Date: One night event in July.*
| • Time (Approximate): 9:00 p.m. to 10:00 p.m.
| • Location: From the St. Albans Bay dock in St. Albans Bay, Vermont in approximate position:
| 44°48′25″ N, 073°08′23″ W (NAD 83).
7.16 Stonington 4th of July Fireworks | • Event Type: Fireworks Display.
| • Sponsor: Deer Isle—Stonington Chamber of Commerce.
| • Date: One night event in July.*
| • Time (Approximate): 8:00 p.m. to 10:30 p.m.
| • Location: In the vicinity of Two Bush Island, Stonington, Maine in approximate position:
| 44°08′57″ N, 068°39′54″ W (NAD 83).
7.17 Southwest Harbor 4th of July Fireworks | • Event Type: Fireworks Display.
| • Sponsor: Sharon Gilley.
| • Date: One night event in July.*
| • Time (Approximate): 8:00 p.m. to 10:30 p.m.
| • Location: Southwest Harbor, Maine in approximate position:
| 44°16′25″ N, 068°19′21″ W (NAD 83).
7.18 Prentice Hospitality Group Fireworks | • Event Type: Fireworks Display.
| • Sponsor: Prentice Hospitality Group.
| • Date: One night event in July.*
| • Time (Approximate): 8:00 p.m. to 10:30 p.m.
| • Location: Chebeague Island, Maine in approximate position:
| 43°45′12″ N, 070°06′27″ W (NAD 83).
7.19 Shelburne Triathlons | • Event Type: Swim Event.
| • Sponsor: Race Vermont.
| • Date: Up to three Saturdays throughout July and August.*
| • Time (Approximate): 7:00 a.m. to 11:00 a.m.
| • Location: The regulated area includes all waters of Lake Champlain in the vicinity of Shelburne Beach in Shelburne, Vermont within a 400 yard radius of the following point (NAD 83):
| 44°21′45″ N, 075°15′58″ W.
7.20 St. George Days Fireworks | • Event Type: Fireworks.
| • Sponsor: Town of St. George.
| • Date: One night event in July.*
| • Time (Approximate): 8:30 p.m. to 10:30 p.m.
| • Location: The regulated area includes all waters of Inner Tenants Harbor, ME, in approximate position (NAD 83):
| 43°57′41.37″ N, 069°12′45″ W.
7.21 Tri for a Cure Swim Clinics and Triathlon | • Event Type: Swim Event.
| • Sponsor: Maine Cancer Foundation.
| • Date: A multi-day event held throughout July.*
| • Time (Approximate): 8:30 a.m. to 11:30 a.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
7.22 Richmond Days Fireworks | • Event Type: Fireworks Display.
| • Sponsor: Town of Richmond, Maine.
| • Date: A one day event in July.*
| • Time (Approximate): 8:00 p.m. to 10:00 p.m.
| • Location: From a barge in the vicinity of the inner harbor, Tenants Harbor, Maine in approximate position:
| 44°08′42″ N, 068°27′06″ W (NAD83).
7.23 Colchester Triathlon | • Event Type: Swim Event.
| • Sponsor: Colchester Parks and Recreation Department.
| • Date: A one day event in July.*
| • Time (Approximate): 7:00 a.m. to 11:00 a.m.
| • Location: The regulated area includes all waters of Malletts Bay on Lake Champlain, Vermont within the following points (NAD 83):
| 44°32′18″ N, 073°12′35″ W.
| 44°32′28″ N, 073°12′56″ W.
| 44°32′57″ N, 073°12′38″ W.
7.24 Peaks to Portland Swim | • Event Type: Swim Event.
| • Sponsor: Cumberland County YMCA.
| • Date: A one day event in July.*
| • Time (Approximate): 5:00 a.m. to 1:00 p.m.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
7.25 Friendship Days Fireworks | • Event Type: Fireworks Display.
| • Sponsor: Town of Friendship.
| • Date: A one day event in July.*
| • Time (Approximate): 8:00 p.m. to 10:30 p.m.
| • Location: In the vicinity of the Town Pier, Friendship Harbor, Maine in approximate position:
| 43°58′23″ N, 069°20′12″ W (NAD83).
7.26 Bucksport Festival and Fireworks | • Event Type: Fireworks Display.
| • Sponsor: Bucksport Bay Area Chamber of Commerce.
| • Date: A one day event in July.*
| • Time (Approximate): 8:00 p.m. to 10:30 p.m.
| • Location: In the vicinity of the Verona Island Boat Ramp, Verona, Maine, in approximate position:
| 44°34′9″ N, 068°47′28″ W (NAD83).
7.27 Nubble Light Swim Challenge | • Event Type: Swim Event.
| • Sponsor: Nubble Light Challenge.
| • Date: A one day event in July.*
| • Time (Approximate): 9:00 a.m. to 12:30 p.m.
| • Location: The regulated area includes all waters around Cape Neddick, Maine and within the following coordinates:
| 43°10′28″ N, 070°36′26″ W.
| 43°10′34″ N, 070°36′06″ W.
| 43°10′30″ N, 070°35′45″ W.
| 43°10′17″ N, 070°35′24″ W.
| 43°09′54″ N, 070°35′18″ W.
| 43°09′42″ N, 070°35′37″ W.
| 43°09′51″ N, 070°37′05″ W.
7.28 Paul Coulombe Anniversary Fireworks | • Event Type: Fireworks Display.
| • Sponsor: Paul Coulombe
| • Date: A one day event in July.*
| • Time: 8:00 p.m. to 11:30 p.m.
| • Location: Pratt Island, Southport, Maine, in approximate position:
| 43°48′44″ N, 069°41′11″ W (NAD83).
8.0 | AUGUST
8.1 Sprucewold Cabbage Island Swim | • Event Type: Swim Event.
| • Sponsor: Sprucewold Association.
| • Date: A one day event in August.*
| • Time (Approximate): 1:00 p.m. to 6:00 p.m.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.2 Westerlund's Landing Party Fireworks | • Event Type: Fireworks Display.
| • Sponsor: Portside Marina.
| • Date: A one day event in August.*
| • Time (Approximate): 8:00 p.m. to 10:30 p.m.
| • Location: In the vicinity of Westerlund's Landing in South Gardiner, Maine in approximate position:
| 44°10′19″ N, 069°45′24″ W (NAD 83).
8.3 Y-Tri Triathlon | • Event Type: Swim Event.
| • Sponsor: Plattsburgh YMCA.
| • Date: A one day event in August.*
| • Time (Approximate): 9:00 a.m. to 10:00 a.m.
| • Location: The regulated area includes all waters of Treadwell Bay on Lake Champlain in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.4 York Beach Fire Department Fireworks | • Event Type: Fireworks Display.
| • Sponsor: York Beach Fire Department.
| • Date: A one day event in August.*
| • Time (Approximate): 8:30 p.m. to 11:30 p.m.
| • Location: In the vicinity of Short Sand Cove in York, Maine in approximate position:
| 43°10′27″ N, 070°36′25″ W (NAD 83).
8.5 Rockland Breakwater Swim | • Event Type: Swim Event.
| • Sponsor: Pen-Bay Masters.
| • Date: A one day event in August.*
| • Time (Approximate): 7:30 a.m. to 1:30 p.m.
| • Location: The regulated area includes all waters of Rockland Harbor, Maine in the vicinity of Jameson Point within the following points (NAD 83):
| 44°06′16″ N, 069°04′39″ W.
| 44°06′13″ N, 069°04′36″ W.
| 44°06′12″ N, 069°04′43″ W.
| 44°06′17″ N, 069°04′44″ W.
| 44°06′18″ N, 069°04′40″ W.
8.6 Tri for Preservation | • Event Type: Swim Event.
| • Sponsor: Tri-Maine Productions.
| • Date: A one day event in August.*
| • Time (Approximate): 7:30 a.m. to 9:00 a.m.
| • Location: In the vicinity of Crescent Beach State Park in Cape Elizabeth, Maine in approximate position:
| 43°33′46″ N, 070°13′48″ W.
| 43°33′41″ N, 070°13′46″ W.
| 43°33′44″ N, 070°13′40″ W.
| 43°33′47″ N, 070°13′46″ W.
8.7 North Hero Air Show | • Event Type: Air Show.
| • Sponsor: North Hero Fire Department.
| • Date: A one day event in August.*
| • Time (Approximate): 10:00 a.m. to 5:00 p.m.
| • Location: In the vicinity of Shore Acres Dock, North Hero, Vermont in approximate position:
| 44°48′24″ N, 073°17′02″ W.
| 44°48′22″ N, 073°16′46″ W.
| 44°47′53″ N, 073°16′54″ W.
| 44°47′54″ N, 073°17′09″ W.
8.8 Islesboro Crossing Swim | • Event Type: Swim Event.
| • Sponsor: Lifeflight Foundation.
| • Date: A one day event in August.*
| • Time: (Approximate): 6:00 a.m. to 11:00 a.m.
| • Location: West Penobscot Bay from Ducktrap Beach, Lincolnville, Maine to Grindel Point, Islesboro, Maine, in approximate position:
| 44°17′44″ N, 069°00′11″ W.
| 44°16′58″ N, 068°56′35″ W.
9.0 | SEPTEMBER
9.1 Windjammer Weekend Fireworks | • Event Type: Fireworks Display.
| • Sponsor: Town of Camden, Maine.
| • Date: A one night event in September.*
| • Time (Approximate): 8:00 p.m. to 9:30 p.m.
| • Location: From a barge in the vicinity of Northeast Point, Camden Harbor, Maine in approximate position:
| 44°12′10″ N, 069°03′11″ W (NAD 83).
9.2 Eastport Pirate Festival Fireworks | • Event Type: Fireworks Display.
| • Sponsor: Eastport Pirate Festival.
| • Date: A one night event in September.*
| • Time (Approximate): 7:00 p.m. to 10:00 p.m.
| • Location: From the Waterfront Public Pier in Eastport, Maine in approximate position:
| 44°54′17″ N, 066°58′58″ W (NAD 83).
9.3 The Lobsterman Triathlon | • Event Type: Swim Event.
| • Sponsor: Tri-Maine Productions.
| • Date: A one day event in September.*
| • Time (Approximate): 8:00 a.m. to 11:00 a.m.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.4 Eliot Festival Day Fireworks | • Event Type: Fireworks Display.
| • Sponsor: Eliot Festival Day Committee.
| • Date: A one night event in September.*
| • Time (Approximate): 8:00 p.m. to 10:30 p.m.
| • Location: In the vicinity of Eliot Town Boat Launch, Eliot, Maine in approximate position:
| 43°08′56″ N, 070°49′52″ W (NAD 83).
9.5 Lake Champlain Swimming Race | • Event Type: Swim Event.
| • Sponsor: Christopher Lizzaraque.
| • Date: A one day event in September.
| • Time (Approximate): 9:00 a.m. to 3 p.m.
| • Location: Essex Beggs Point Park, Essex, New York, to Charlotte Beach, Charlotte, Vermont.
| 44°18′32″ N, 073°20′52″ W.
| 44°20′03″ N, 073°16′53″ W.
* Date subject to change. Exact date will be posted in Notice of Enforcement and Local Notice to Mariners.

Dated: April 22, 2015.
J.P. Humpage,
Commander, U.S. Coast Guard, Acting Captain of the Port, Sector Northern New England.

[FR Doc. 2015-11460 Filed 5-11-15; 8:45 a.m.]

BILLING CODE 9110-04-P